ENVIRONMENTAL PROTECTION AGENCY

[FRL-9157-8]

Science Advisory Board Staff Office; Notification of Two Public Teleconferences of the SAB Trichloroethylene (TCE) Review Panel

AGENCY: Environmental Protection Agency (EPA).

ACTION: Notice.

SUMMARY: The EPA Science Advisory Board (SAB) Staff Office announces two public teleconferences of the SAB Trichloroethylene (TCE) Review Panel to conduct a follow-up discussion of its review of EPA's Toxicological Review of Trichloroethylene in Support of Summary Information on the Integrated Risk Information System (IRIS), External Review Draft.

DATES: There will be a public teleconference on June 24, 2010 from 12:30 to 4:30 p.m. (Eastern Daylight Time) and another public teleconference on August 5, 2010 from 9 to 11:30 a.m. (Eastern Daylight Time).

ADDRESSES: The teleconferences will be conducted by phone only.

FOR FURTHER INFORMATION CONTACT: Any member of the public wishing to obtain information concerning the public teleconferences may contact Dr. Holly Stallworth, Designated Federal Officer (DFO), EPA Science Advisory Board Staff Office (1400F), U.S. Environmental Protection Agency, 1200 Pennsylvania Avenue, NW., Washington, DC 20460; by telephone/voice mail at (202) 343-9867 or via e-mail at stallworth.holly@epa.gov. General information about the SAB, as well as any updates concerning the meeting announced in this notice, may be found on the SAB Web site at http://www.epa.gov/sab.

SUPPLEMENTARY INFORMATION: Pursuant to the Federal Advisory Committee Act (FACA), 5 U.S.C., App. 2, notice is hereby given that the SAB Trichloroethylene (TCE) Review Panel will hold two public teleconferences to discuss its peer review report to EPA. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

The TCE Review Panel met on May 10-12, 2010, to review EPA's Toxicological Review of Trichloroethylene in Support of Summary Information on the Integrated Risk Information System (IRIS), External Review Draft [Federal Register Notice dated March 31, 2010 (75 FR 16108-16109)]. Materials from the May meeting are posted on the SAB Web site at http://yosemite.epa.gov/sab/sabproduct.nsf/MeetingCalBOARD/BEEA3E70E29DE3A8852576E3006B8F54?OpenDocument. The purpose of the June 24, 2010 teleconference is to further discuss the Panel's review of EPA's draft document. The purpose of the August 5, 2010 teleconference is to discuss the Panel's draft report.

Availability of Meeting Materials: Agendas and materials in support of these meetings will be placed on the SAB Web site at http://www.epa.gov/sab in advance of each meeting. For technical questions and information concerning EPA's draft document, please contact Dr. Weihsueh Chiu at (703) 347-8607, or chiu.weihsueh@epa.gov.

Procedures for Providing Public Input: Public comment for consideration by EPA's Federal advisory committees and panels has a different purpose from public comment provided to EPA program offices. Therefore, the process for submitting comments to a Federal advisory committee is different from the process used to submit comments to an EPA program office. Federal advisory committees and panels, including scientific advisory committees, provide independent advice to EPA. Members of the public can submit comments for a Federal advisory committee to consider as it develops advice for EPA. They should send their comments directly to the Designated Federal Officer for the relevant advisory committee. Oral Statements: In general, individuals or groups requesting an oral presentation at a public teleconference will be limited to three minutes per speaker, with no more than a total of 30 minutes for all speakers. Each person making an oral statement should consider providing written comments as well as their oral statement so that the points presented orally can be expanded upon in writing. Interested parties should contact Dr. Holly Stallworth, DFO, in writing (preferably via e-mail) at the contact information noted above, by June 21, 2010 for the June 24, 2010 teleconference and by August 2, 2010 for the August 5, 2010 teleconference, to be placed on the list of public speakers. Written Statements: Written statements should be supplied to the DFO via e-mail at the contact information noted above. Materials received fewer than two days before each teleconference may not be delivered to panel members in time for them to consider the materials during the teleconference. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Dr. Holly Stallworth at (202) 343-9867 or stallworth.holly@epa.gov. To request accommodation of a disability, please contact Dr. Stallworth preferably at least ten days prior to each teleconference to give EPA as much time as possible to process your request.

Dated: May 25, 2010.
Anthony F. Maciorowski,
Deputy Director, EPA Science Advisory Board Staff Office.

[FR Doc. 2010-13202 Filed 6-1-10; 8:45 am]

BILLING CODE 6560-50-P